DEPARTMENT OF JUSTICE

Immigration and Naturalization Service

[INS No. 2123-01]

Announcement of the Final Three Meetings of the District Advisory Council on Immigration Matters

AGENCY: Immigration and Naturalization Service, Justice.

ACTION: Notice of meetings.

SUMMARY: The Immigration and Naturalization Service (Service) has established a District Advisory Council on Immigration Matters (DACOIM) to provide the New York District Director of the Service with recommendations on ways to improve the response and reaction to customers in the local jurisdiction and to develop new partnerships with local officials and community organizations to build and enhance a broader understanding of immigration policies and practices. The purpose of this notice is to announce the forthcoming DACOIM meetings.

DATES AND TIMES: The final three meetings of the DACOIM are scheduled as follows:

• March 29, 2001, at 10 a.m.

• April 5, 2001, at 1 p.m.

• April 26, 2001, at 1 p.m.

ADDRESSES: All three of these meetings will be held at the Jacob Javitts Federal Building, 26 Federal Plaza, Room 537, New York, New York 10278.

FOR FURTHER INFORMATION CONTACT: Christian A. Rodriguez, Designated Federal Officer, Immigration and Naturalization Service, 26 Federal Plaza, Room 14-100, New York, New York 10278, telephone: (212) 264-0736.

SUPPLEMENTARY INFORMATION:

Background

On September 10, 1997, the Service published a notice in the Federal Register at 62 FR 47692 establishing the DACOIM in accordance with the provisions of the Federal Advisory Committee Act, 5 U.S.C. app. 2 (1972), and 41 CFR 101-6.1001-6.1035 (1992). The DACOIM was established to provide recommendations to the New York District Director on ways to improve the response and reaction to customers in the local jurisdiction, and to increase cooperative opportunities by serving as a community base for anchoring outreach activities and education, in order to strengthen the relationship between the Service and all members of the community. Since September 10, 1997, the Service held 11 DACOIM meetings.

Summary of Agenda

Since the DACOIM charter will expire on May 13, 2001, the purpose of the final three meetings will be to continue to conduct general business, review subcommittee reports, and facilitate public participation, as well as facilitating the closure of the DACOIM committee. The DACOIM meetings will be chaired by Jack Byrnes, Section Chief, New York District, Immigration and Naturalization Service.

Public Participation

The DACOIM meetings are open to the public, but advance notice of attendance is requested to ensure adequate seating. Persons planning to attend should notify the contact person at least two (2) days prior to each meeting. Members of the public may submit written statements at any time before or after the meeting for consideration by the DACOIM. Written statements should be sent to Christian A. Rodriguez, Designated Federal Officer, Immigration and Naturalization Service, 26 Federal Plaza, Room 14-100, New York, New York 10278, telephone: (212) 264-0736. Written statements will be considered for presentation at the meetings if they are received by:

(1) March 23, 2001, for the meeting on March 29, 2001.

(2) April 2, 2001, for the meeting on April 5, 2001.

(3) April 20, 2001, for the meeting on April 26, 2001.

Minutes of the meetings will be available upon request.

Dated: March 8, 2001.
Mary Ann Wyrsch,
Acting Commissioner, Immigration and Naturalization Service.

[FR Doc. 01-6307 Filed 3-13-01; 8:45 am]

BILLING CODE 4410-10-M